DEPARTMENT OF THE INTERIOR

[212D0102DM, DS6CS00000, DLSN00000.000000, DX6CS25; OMB Control No. 1090-NEW]

Agency Information Collection Activities; Watercraft Inspection Decontamination Regional Data-Sharing for Trailered Boats

AGENCY: Department of the Interior.

ACTION: Notice of information collection; request for comment.

SUMMARY: In accordance with the Paperwork Reduction Act of 1995, we, the Department of the Interior (Interior), are proposing a new information collection.

DATES: Interested persons are invited to submit comments on or before February 1, 2021.

ADDRESSES: Send your comments on this information collection request (ICR) by mail to Mr. Jeffrey Parrillo, Departmental Information Collection Clearance Officer, 1849 C Street NW, Washington, DC 20240, by phone 202-208-7072; or by email to DOI-PRA@ios.doi.gov. Please reference OMB Control Number 1090-NEW in the subject line of your comments.

FOR FURTHER INFORMATION CONTACT: To request additional information about this ICR, contact Jeffrey Parrillo by email at DOI-PRA@ios.doi.gov, or by telephone at (202) 208-7072. Individuals who are hearing or speech impaired may call the Federal Relay Service at (800) 877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Interior is authorized by the Lacey Act (18 U.S.C. 42, 16 U.S.C. 3371-3378 et seq.), the Fish and Wildlife Coordination Act (U.S.C. 661 et seq., as amended by John D. Dingell, Jr. Conservation, Management, and Recreation Act, Title 25 U.S. Code 3701, et seq. sec. 7001(b)(2), Pub. L. 116-9) and the Federal Land Policy and Management Act of 1976, as Amended, 43 U.S.C. 1701, et seq., to collect this information. Interior is requesting approval to collect information from boaters entering or exiting water areas managed by various bureaus under Interior. The data will help document the presence and evaluate any risks associated with the unintentional introduction of quagga/zebra mussels and other aquatic invasive species in waters managed by the various bureaus under Interior. Collection of this information is required for all watercrafts entering and exiting waters managed by the various bureaus under Interior that have an active watercraft inspection and decontamination program.

The Regional Watercraft Inspection Decontamination Data Sharing System (Regional Database) was developed by the State of Colorado and is currently being utilized by numerous entities within the Western Regional Panel on Aquatic Nuisance Species (WRP). The National Park Service, U.S. Fish and Wildlife Service, Bureau of Reclamation, and Bureau of Land Management are part of the WRP and the regional network of state and federal agencies working to prevent the spread of quagga/zebra mussels and other aquatic invasive species (AIS) in the western U.S. The success of this multi-agency effort relies in part upon timely availability of accurate information related to trailered boats at watercraft inspection/decontamination (WID) stations. The NPS already has OMB approval to use this database but that collection will be discontinued and NPS will be rolled into this Department wide information collection once approved. The Regional Database makes this information available to staff at WID stations, allowing them to assess risk associated with quagga/zebra mussels and other AIS on trailered boats. States are asking federal partner agencies to begin using the database at their sites with WID programs.

Using the Regional Database requires that WID personnel ask boaters four questions and enter the responses via an app on a smartphone or tablet. Two of the four questions vary depending on whether a boater is entering or exiting a waterbody; the other two questions are the same for entering and exiting boaters:

Upon Entering:

1. Has the boat been out of the state in the last 30 days?

2. Has the boat been in any other waters in the last 30 days?

Upon Exiting:

1. What is the destination for the boat?

2. Where will the boat be launched next?

Upon Entering and Exiting:

1. What compartments or containers on the boat, including ballast tanks, hold water?

2. Does the boater have any live aquatic bait?

Title of Collection: Watercraft Inspection Decontamination Regional Data-sharing for Trailered Boats.

OMB Control Number: 1090-NEW.

Form Number: None.

Type of Review: New.

Respondents/Affected Public: Individuals/household; private sector; and State, local, and Tribal governments.

Total Estimated Number of Annual Responses: 335,602.

Estimated Completion Time per Response: 4 minutes.

Total Estimated Number of Annual Burden Hours: 22,486 hours.

Respondent's Obligation: Required to obtain or retain a benefit.

Frequency of Collection: On occasion. (Upon entry, exit, or both)

Total Estimated Annual Nonhour Burden Cost: None.

An agency may not conduct or sponsor and a person is not required to respond to a collection of information unless it displays a currently valid OMB control number.

The authority for this action is the Paperwork Reduction Act of 1995 (44 U.S.C. 3501 et seq).

Jeffrey Parrillo,
Departmental Information Collection Clearance Officer.

[FR Doc. 2020-26604 Filed 12-2-20; 8:45 am]

BILLING CODE 4334-CC-P